RAILROAD RETIREMENT BOARD

Proposed Collection; Comment Request

Summary: In accordance with the requirement of section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Medicare; OMB 3220-0082.

Under Section 7(d) of the Railroad Retirement Act (RRA) (45 U.S.C. 231f), the Railroad Retirement Board (RRB) administers the Medicare program for persons covered by the railroad retirement system. The RRB uses Form AA-6, Employee Application for Medicare; Form AA-7, Spouse/Divorced Spouse Application for Medicare; and Form AA-8, Widow/Widower Application for Medicare; to obtain the information needed to determine whether individuals who have not yet filed for benefits under the RRA are qualified for Medicare payments provided under Title XVIII of the Social Security Act.

The RRB uses Form RL-311-F, Evidence of Coverage Under An Employer Group Health Plan, to obtain the basic information needed to establish EGHP coverage for a qualified railroad retirement beneficiary.

The RRB will use new Form AA-23, Application For Medicare—Medical Insurance (Part B) Program, to obtain information from a quailed railroad retirement beneficiary to determine if they are eligible to enroll through the Initial Enrollment Period, Special Enrollment Period (SEP), or General Enrollment Period. The RRB will use new Form AA-24, Application for Medicare Part B—Special Enrollment Period (Exceptional Conditions), to obtain the information needed to determine if a qualified railroad retirement beneficiary is entitled to a SEP because of an exceptional condition.

Completion of the forms is required to obtain a benefit. One response is requested of each respondent.

The RRB proposes changes to the following forms in this collection:

• Form AA-6

○ Added 'OR SOCIAL SECURITY ADMINISTRATION NUMBER' and 'OR BIC' to Question 2,

○ Removed `COUNTY' from Question 4 due to this data no longer being in use,

○ Added `U.S. Space Force' to the list of military service options to Question 13,

○ Added the following clarifying language to Section 4:

“Initial Enrollment Period (IEP) is the 7-month period when you are first eligible for Medicare. This period begins 3 months before you turn 65, includes the month you turn 65, and ends 3 months after you turn 65. Coverage begins the month after you signs up during your IEP.

You are eligible for a Special Enrollment period (SEP) enrollment if you are age 65 or older, or under age 65 and disabled, and did not select to be enrolled in Medicare Part B coverage when you became eligible and are covered under an employer group health plan based on your own or your spouse's current employment.

The General Enrollment Period (GEP) is the time period every year from January 1 to March 31 when you can enroll in Medicare Part B for the first time if you missed your Initial Enrollment Period (IEP) and do not qualify for the Part B Special Enrollment Period (SEP).”,

○ Added `GEP' as an option to Question 19 to allow for all potential options, and

○ Added attestation section for individual to provide additional details pertaining their enrollment.

• Form AA-7

○ Added 'OR SOCIAL SECURITY ADMINISTRATION NUMBER' and 'OR BIC' in Question 2,

○ Removed `COUNTY' from Question 5 due to this data no longer being in use,

○ Added `U.S. Space Force' to the list of military service options to Question 18,

○ Added the clarifying language to Section 5:

“Initial Enrollment Period (IEP) is the 7-month period when you are first eligible for Medicare. This period begins 3 months before you turn 65, includes the month you turn 65, and ends 3 months after you turn 65. Coverage begins the month after you signs up during your IEP.

You are eligible for a Special Enrollment period (SEP) enrollment if you are age 65 or older, or under age 65 and disabled, and did not select to be enrolled in Medicare Part B coverage when you became eligible and are covered under an employer group health plan based on your own or your spouse's current employment.

The General Enrollment Period (GEP) is the time period every year from January 1 to March 31 when you can enroll in Medicare Part B for the first time if you missed your Initial Enrollment Period (IEP) and do not qualify for the Part B Special Enrollment Period (SEP).”,

○ Added `GEP' as an option to Question 27 to allow for all potential options, and

○ Added attestation section for individual to provide additional details pertaining their enrollment.

• Form AA-8

○ Updated Section 1 to reflect 2024 in the data example,

○ Added 'OR SOCIAL SECURITY ADMINISTRATION NUMBER' and 'OR BIC' to Question 2,

○ Removed `COUNTY' from Question 5 due to this data no longer being in use, and

○ Added attestation section for individual to provide additional details pertaining their enrollment.

• Form RL-311-F

○ Add the option to return the form by facsimile,

○ Added a note to Question 3 advising to include previous coverage dates if healthcare providers were changed during the beneficiary's employment,

○ Changed Question 4 to replace `working with employed' with `an employment start date for the employee',

○ Changed Question 4 from `see below for additional information' to see page 2 for additional information.',

○ Changed `Medicare Part B (Medical Insurance)' to `Medicare Medical Insurance (Part B)' and replaced `is entitled' with `is eligible' in the form's introductory paragraph,

○ Updated gender pronouns to reflect gender neutral `they' designations instead of male and female pronouns in page 2 disclaimer in Question 4, and

○ Added attestation section for individual to provide additional details pertaining their enrollment.

• Added Form AA-23 to the collection.

• Added Form AA-24 to the collection.

Estimate of Annual Respondent Burden
Form No. | Annual responses | Time (minutes) | Burden (hours)
AA-6 | 180 | 8 | 24
AA-7 | 50 | 8 | 7
AA-8 | 10 | 8 | 1
AA-23 | 1000 | 5 | 1
AA-24 | 600 | 10 | 2
RL-311-F | 2,000 | 10 | 333
Total | 3,840 |  | 368

Additional Information or Comments: To request more information or to obtain a copy of the information collection justification, forms, and/or supporting material or comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2025-01643 Filed 1-23-25; 8:45 am]

BILLING CODE 7905-01-P